DEPARTMENT OF HOMELAND SECURITY

[Docket Number—DHS-2022-0018]

Real ID Applicant Information and Documentation

AGENCY: Department of Homeland Security (DHS).

ACTION: 30-Day notice and request for comments; Real ID Applicant Information and Document, OMB 1601-NEW.

SUMMARY: The Department of Homeland Security will submit the following information collection request (ICR) to the Office of Management and Budget (OMB) for review and clearance in accordance with the Paperwork Reduction Act of 1995. DHS previously published this information collection request (ICR) in the Federal Register on Thursday, April 21, 2022, for a 60-day public comment period and there was one comment received by DHS. The purpose of this notice is to allow additional 30-days for public comments.

DATES: Comments are encouraged and will be accepted until November 30, 2022. This process is conducted in accordance with 5 CFR 1320.10.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: The REAL ID Act of 2005 (the Act) prohibits Federal agencies from accepting State-issued drivers' licenses or identification cards for any official purpose—defined in the Act and regulations to include accessing federal facilities, boarding federally regulated commercial aircraft, and entering nuclear power plants—unless the license or card is issued by a State that meets the requirements set forth in the Act. The REAL ID regulations, which DHS issued in January 2008, establish the minimum standards that States must meet to comply with the Act. DHS has a separate collection of information related to DHS interaction with States, e.g., State certification (see OMB Control No. 1601-0005). By contrast to that collection of information, this collection of information relates to the States' collection of information from driver's license applicants.

Initial information and Documentation

The Act and regulations also prescribe the documents and information an individual must present as proof of identity and lawful status when applying for a REAL ID compliant license or identification card. This includes information and documentation establishing a person's identity, date of birth, social security number, residence address, and evidence of U.S. citizenship or lawful status in the United States. Additionally, states may permit an applicant to establish a name other than the name that appears on a source document but must require evidence of the name change through presentation of documents issued by a court, governmental body or other entity as determined by the state. The costs of these activities are one-time costs because they accrue as part of the initial issuance process only.

Reissuance and Renewal

With certain exceptions, the REAL ID regulations generally permit an applicant to renew or obtain a reissued replacement REAL ID license or identification card remotely and without presenting additional documentation or information. States may not, however, remotely renew or reissue a replacement license or identification card where there has been a material change in any personally identifiable information since the prior issuance. In such cases, an applicant must present documentation establishing the material change. The regulations also require applicants to renew their REAL ID licenses and identification cards in-person at least once every sixteen years. Additionally, holders of temporary or limited-term REAL ID driver's licenses and identification cards must present evidence of continued lawful status when renewing their license or identification card.

In addition to requiring applicants to present certain identity and lawful status documentation and information as described in paragraph 1 above, the REAL ID Act and regulations require states to verify and retain copies of that information. These requirements help states to ensure the authenticity of an applicant's information and reduce opportunities for fraud in the application and document issuance process. The regulations specifically require states to verify identity and lawful status information and documentation presented by an applicant to ensure (1) the source document provided is genuine and has not been altered (“document authentication”), and (2) the identity data contained on the document is valid (“data verification”). States must verify documents and information provided by an applicant with the issuer of the document and use electronic validation systems as they become available for use. For example, to verify an applicant's lawful status in the United States, the regulations require states to verify a document issued by the Department of Homeland Security through the use of the Systematic Alien Verification for Entitlements (SAVE) system or alternate method approved by DHS. Similarly, states must verify documents issued by the U.S. Department of State, including U.S. passports, with the Department of State, social security information with the Social Security Administration, and birth certificates using the Electronic Verification of Vital Events (EVVE) system or other electronic system when the records are available. The regulations also require state department of motor vehicle employees who are involved in the handling of an applicant's source documents or who are engaged in the issuance of driver's licenses and identification cards to undergo periodic fraudulent document recognition training and security awareness training. The Act and regulations also require states to retain copies of the application, declaration, and source documents, including documents establishing name changes for either seven years or ten years depending on whether the documents are retained electronically or in paper format.

Applicants for REAL ID licenses and identification cards generally submit their documentation and information in-person at a state DMV office. During the application process the state will review and make copies of an applicant's information, collect the completed application, take the applicant's photograph, and obtain a declaration that the information presented is true and correct. Although this transaction generally occurs in-person, DHS has provided guidance authorizing states to allow applicants to pre-submit identity and lawful status source documents through a secure electronic process in advance of an in-person DMV visit at which time the applicant would physically present those same documents for authentication and verification by DMV personnel. States that utilize this process have indicated that it helps to ensure an applicant has the correct information and reduces customer wait times by allowing the state to electronically copy the information in advance of the visit.

In December 2020, Congress enacted the REAL ID Modernization Act, which includes provisions that would allow states to accept applicant information through electronic transmission methods following the DHS issuance of regulations and state certification that they comply with those regulations. DHS is in the process of developing regulations to implement this provision, which when implemented by the state could help to reduce the burden's associated with an in-person DMV visit to obtain a REAL ID compliant license or identification card.

The information collection discussed in this analysis applies to applicant's for REAL ID licenses and identification cards. Therefore, it is DHS's belief that the information collection does not have a significant impact on a substantial number of small businesses.

Without the presentation, verification, and retention of applicant identity and lawful status documentation and information, states would be unable to comply with REAL ID requirements. As a consequence, individuals would be unable to use their state-issued driver's license or identification card for REAL ID official purposes. This is a new collection.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security (DHS).

Title: REAL ID Applicant Information and Documentation.

OMB Number: 1601-NEW.

Frequency: Annually.

Affected Public: Public.

Number of Respondents: 89,958,000.

Estimated Time per Respondent: 2.42.

Total Burden Hours: 34,887,000.

Kalinka Cihlar,
Deputy Executive Director, Business Management Directorate.

[FR Doc. 2022-23656 Filed 10-28-22; 8:45 am]

BILLING CODE 9112-FL-P